DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with April anniversary dates. In accordance with Commerce's regulations, we are initiating those administrative reviews.

DATES: Applicable May 20, 2025.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with April anniversary dates.

All deadlines for the submission of various types of information, certifications, comments, or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our decision regarding respondent selection within 35 days of publication of the initiation notice in the Federal Register. Comments regarding the CBP data (and/or Q&V data (where applicable)) and respondent selection should be submitted within seven days after the placement of the CBP data/submission of the Q&V data on the record of the review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this initiation notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V questionnaire is issued must complete, as appropriate, either a Separate Rate Application or Certification, and respond to the Q&V questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 14 calendar days after publication of this Federal Register notice. In addition to filing a Separate Rate Certification with Commerce no later than 14 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 14 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf.

Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than April 30, 2026.

| Period to be reviewed
AD Proceedings
Bahrain: Common Alloy Aluminum Sheet, A-525-001 | 4/1/24-3/31/25
Gulf Aluminium Rolling Mill B.S.C.
Brazil: Common Alloy Aluminum Sheet, A-351-854 | 4/1/24-3/31/25
CBA-Central and Sales Office
CBA Itapissuma
Companhia Brasileira de Alumínio
Novelis do Brasil Ltda.
Croatia: Common Alloy Aluminum Sheet, A-891-001 | 4/1/24-3/31/25
Impol d.o.o.
Impol TLM, d.o.o
Egypt: Common Alloy Aluminum Sheet, A-729-803 | 4/1/24-3/31/25
Aluminium Company of Egypt (Egyptalum)
Germany: Common Alloy Aluminum Sheet, A-428-849 | 4/1/24-3/31/25
Speira GmbH
Novelis Deutschland GmbH
Constellium Singen GmbH
Alanod GmbH & Co. KG
India: Carbon and Alloy Steel Threaded Rod, A-533-887 | 4/1/24-3/31/25
Aadi Shree Fastener Industries
Babu Exports
Bee Dee Cycle Industries
Chirag International
Concept Fasteners
Daksh Fasteners
Everest Industrial Corporation
Good Good Manufacturers ⁴
J.D. Fasteners
Kanika Exports ⁵
Kanika Fasteners Private Limited
Kapil Enterprises
Kapson India
Maharaja International
Mangal Steel Enterprise Limited
Nishant Steel Industries
RK Fasteners
Shree Luxmi Fasteners ⁶
United Overseas Bolts & Nuts PVT LT
Xcel Exports
India: Common Alloy Aluminum Sheet, A-533-895 | 4/1/24-3/31/25
Hindalco Industries Limited
Jindal Aluminum Limited
Virgo Aluminum Limited
Indonesia: Common Alloy Aluminum Sheet, A-560-835 | 4/1/24-3/31/25
PT. Alumindo Light Metal Industry, Tbk.
PT. Starmas Inti Aluminum Industry
Oman: Common Alloy Aluminum Sheet, A-523-814 | 4/1/24-3/31/25
Oman Aluminium Rolling Company LLC
Oman Aluminium Rolling Company SPC
Romania: A-485-809 | 4/1/24-3/31/25
Alro, SA, Vimetco Management Romania, SRL, Vimetco Group
Serbia: Common Alloy Aluminum Sheet, A-801-001 | 4/1/24-3/31/25
Impol d.o.o
Impol Seval, A.D.
Otovici d.o.o
Slovenia: Common Alloy Aluminum Sheet, A-856-001 | 4/1/24-3/31/25
Impol d.o.o
Impol FT d.o.o
Impol Servis
Impol 2000
Spain: Common Alloy Aluminum Sheet, A-469-820 | 4/1/24-3/31/25
Compania Valenciana de Aluminio Baux, S.L.U.; Bancolor Baux, S.L.U.; Jupiter
Aluminum Corp.
Aludium Transformacion de Productos, S.L.
South Africa: Common Alloy Aluminum Sheet, A-791-825 | 4/1/24-3/31/25
Hulamin Operations Proprietary Limited
Taiwan: Common Alloy Aluminum Sheet, A-583-867 | 4/1/24-3/31/25
C. S. Aluminium Corporation
Thailand: Certain Frozen Warmwater Shrimp,⁷ A-549-822 | 2/1/24-1/31/25
KF Foods; KF Foods Limited; Kingfisher Holdings Limited
The People's Republic of China: 1,1,1,2-Tetrafluoroethane (R-134a), A-570-044 | 4/1/24-3/31/25
Bestcool Inc., Ltd.
Electrochemical Factory of Zhejiang Juhua Co., Ltd.
Hongkong Richmax Ltd.
Huantai Dongyue International Trade Co. Ltd.
ICOOL Chemical Co., Ltd.
Jiangsu Bluestar Green Technology Co., Ltd
Jinhua Binglong Chemical Technology Co., Ltd.
Jinhua Yonghe Fluorochemical Co., Ltd.
Ningbo FTZ ICOOL Prime International
Quzhou Jinyuan Hongtai Refrigerant Co., Ltd.
Shandong Dongyue Chemical Co., Ltd.
Shandong Huaan New Material Co., Ltd.
Sinochem Environmental Protection Chemicals (Taicang) Co., Ltd.
T.T. International Co., Ltd.
Weichang Refrigeration Equipment (Kunshan) Co., Ltd.
Weitron International Refrigeration Equipment (Kunshan) Co., Ltd.
Zhejiang Juhua Co., Ltd.
Zhejiang Morita New Materials Co., Ltd.
Zhejiang Organic Fluor-Chemistry Plant, Zhejiang Juhua Co., Ltd.
Zhejiang Quhua Fluor-Chemistry Co., Ltd.
Zhejiang Quhua Juxin Fluorochemical Industry Co., Ltd.
Zhejiang Quzhou Juxin Fluorine Chemical Co., Ltd.
Zhejiang Quzhou Lianzhou Refrigerants Co., Ltd.
Zhejiang Sanmei Chemical Industry Co., Ltd.; Jiangsu Sanmei Chemicals Co., Ltd.;
Fujian Qingliu Dongying Chemical Ind. Co., Ltd.
Zhejiang Yonghe Refrigerant Co., Ltd.
Zhejiang Zhonglan Refrigeration Technology Co., Ltd.
Zibo Feiyuan Chemical Co., Ltd.
The People's Republic of China: Aluminum Foil, A-570-053 | 4/1/24-3/31/25
Anhui Zhongji Battery Foil Science & Technology Co., Ltd.
Dingheng New Materials Co., Ltd.
Dingsheng Aluminum Industries (Hong Kong) Trading Co., Ltd.
Dongwon Systems Corp.
Dong-IL Aluminium Co., Ltd.
Eastern Valley Co., Ltd.
Gränges Aluminum (Shanghai) Co., Ltd.
Hangzhou Dingsheng Import&Export Co. Ltd.
Hangzhou Five Star Aluminum Co., Ltd.
Hangzhou Teemful Aluminium Co., Ltd.
Inner Mongolia Liansheng New Energy Material Co. Ltd.
Inner Mongolia Xinxing New Energy Material Co., Ltd.
Jiangsu Dingsheng New Materials Joint-Stock Co., Ltd.
Jiangsu Huafeng Aluminum Industry Co., Ltd.
Jiangsu Zhongji Lamination Materials Co., Ltd.
Jiangsu Zhongji Lamination Materials Co., (HK) Limited
Korea Aluminium Co., LTD.
Lotte Aluminium Co., Ltd.
Sama Aluminium Co Ltd
Shanghai Shenhuo Aluminium Foil Co., Ltd.
Shanghai Shenyan Packaging Materials Co., Ltd.
Xiamen Xiashun Aluminium Foil Co. Ltd.
The People's Republic of China: Alloy and Certain Carbon Steel Threaded Rod, A-570-104 | 4/1/24-3/31/25
Cooper & Turner (Ningbo) International Trading Co., Ltd.
EC International (Nantong) Co., Ltd.
IFI & Morgan Ltd.
Ningbo Dingtuo Imp. & Exp. Co., Ltd.
Ningbo Dongxin High-Strength Nut Co., Ltd.
Ningbo Jinding Fastening Piece Co., Ltd.
Zhejiang Junyue Standard Part Co., Ltd.
The People's Republic of China: Certain Activated Carbon, A-570-904 | 4/1/24-3/31/25
Beijing Pacific Activated Carbon
Bengbu Modern Environmental Co. Ltd.
Carbon Activated Tianjin Co., Ltd.
Datong Hongdi Activated Carbon Technology Co., Ltd.
Datong Hongdi Carbon Co., Ltd.
Datong Juqiang Activated Carbon Co., Ltd.
Datong Municipal Yunguang Activated Carbon Co.
Jilin Bright Future Chemicals Co., Ltd.
Ningxia Guanghua Activated Carbon Co., Ltd.
Ningxia Guanghua Cherishmet Activated Carbon Co., Ltd.
Ningxia Huahui Activated Carbon Co., Ltd.
Ningxia Huahui Environmental Technology Co., Ltd.
Ningxia Mineral & Chemical Limited
Shanxi Dapu International Trade Co., Ltd.
Shanxi DMD Corp.
Shanxi Industry Technology Trading Co., Ltd.
Shanxi Sincere Industrial Co., Ltd.
Shanxi Tianxi Purification Filter Co., Ltd.
Sinoacarbon International Trading Co., Ltd.
Tancarb Activated Carbon Co., Ltd.
Tianjin Jacobi International Trading Co., Ltd.; Jacobi Carbons AB; Jacobi Carbons
Industry (Tianjin) Co., Ltd.; Jacobi Adsorbent Materials (Tianjin) Co., Ltd.⁸
Tianjin Channel Filters Co., Ltd.
Tianjin Maijin Industries Co., Ltd.
The People's Republic of China: Certain Mobile Access Equipment and Subassemblies Thereof, A-570-139 | 4/1/24-3/31/25
Anhui Heli Industrial Vehicle Imp. & Exp. Co., Ltd
Changzhou Hengxuan Logistics Co., Ltd.
Crown Equipment (Suzhou) Co., Ltd.
Deqing Liguan Machinery Trading Co. Ltd.
Dongguan Tinbo Packing Industrial Co., Ltd.
Everocean International Forwarding Co., Ltd.
Fujiang Jingong Machinery Co., Ltd.
Gmg Outdoor Products Co., Ltd
Guangdong Machinery Imp. & Exp. Co., Ltd.
Guangxi LiuGong Machinery Co., Ltd.
Guangzhou Eounice Machinery Co., Ltd.
Hangzhou Hengli Metal Processing Co., Ltd.
Henan Global Heavy Industry Technology Co., Ltd.
Hunan Sinoboom Intelligent Equipment Co., Ltd.
Jiaxing Xinfeng Zhong Wang Hydrualic Pressure Accessory Factory
Jinan Zhongtang Mechanical Equipment
Jinan Zhongtian International Trading
Leader Technology Co., Ltd
Lingong Group Jinan Heavy Machinery Co., Ltd.
Lingong Heavy Machinery Co., Ltd.
Mantall Heavy Industry Co., Ltd.
Noblelift Intelligent Equipment Co., Ltd.
Oshkosh JLG (Tianjin) Equipment Technology Co., Ltd.
Sany Marine Heavy Industry Co., Ltd.
Shandong Huifeng Auto Fittings
Shandong Lede Machinery
Shandong Tavol Machinery Co., Ltd.
Shanghai Full Trans Global Forwarding Co., Ltd.
Shanghai Inter Cooperation Co., Ltd.
Shanghai Xiangcheng Trading Co., Ltd.
Shanghai Xindun Trade Co., Ltd.
Shenzhen Shining Ocean International Logistics Co., Ltd
Skyjack Inc
Sunward Intelligent Equipment Co., Ltd.
Terex (Changzhou) Machinery Co., Ltd.
Wuhai Huadong Heavy Industry Foundry Co., Ltd.
Xuzhou Construction Machinery Group Fire-Fighting Safety Equipment Co., Ltd.
Xuzhou Construction Machinery Group Imp. & Exp. Co., Ltd.
Yantai Carhart Manufacturing Co., Ltd.
Yantai Empire Industry and Trade
Zhejiang Dingli Machinery Co., Ltd.
Zhejiang Smile Tools Co., Ltd.
Zhongshan Shiliwang Machinery Co., LTD
Zoomlion Heavy Industry Science & Technology Co., Ltd.
The People's Republic of China: Wooden Cabinets and Vanities and Components Thereof, A-570-106 | 4/1/24-3/31/25
Anhui Swanch Cabinetry Co., Ltd.
Anhui Xinyuanda Cupboard Co., Ltd.
Changyi Zhengheng Woodwork Co., Ltd.
Dalian Hualing Wood Co., Ltd.
Dalian Meisen Woodworking Co., Ltd.
Dongguan Ri Sheng Home Furnishing Articles Co., Ltd.
Fujian Dushi Wooden Industry Co., Ltd.
Fujian Leifeng Cabinetry Co., Ltd.
Fuzhou CBM Import & Export Co., Ltd.
Goldenhome Living Co., Ltd.
Guangzhou Nuolande Import and Export Co., Ltd.
Hong Kong Jian Cheng Trading Co., Ltd.
Honsoar New Building Material Co., Ltd.
Jiang Su Rongxin Cabinets Ltd.
Jiang Su Rongxin Wood Industry Co., Ltd.
Jiangsu Beichen Wood Co., Ltd.
Jiangsu Sunwell Cabinetry Co., Ltd.
Jiangsu Weisen Houseware Co., Ltd.
Jiangsu Xiangsheng Bedtime Furniture Co., Ltd.
KM Cabinetry Co., Ltd.
Kunshan Baiyulan Furniture Co., Ltd.
Linyi Kaipu Furniture Co., Ltd.
Morewood Cabinetry Co., Ltd.
Nanjing Kaylang Co., Ltd.
Oppein Home Group Inc.
Qingdao Haiyan Drouot Household Co., Ltd.
Qingdao Shousheng Industry Co., Ltd.
Quanzhou Ample Furnishings Co., Ltd.
Senke Manufacturing Company
Shandong Jinhua Wood Co., Ltd.
Shandong Longsen Woods Co., Ltd.
Shanghai Zifeng International Trading Co., Ltd.
Sheen Lead International Trading (Shanghai) Co., Ltd.
Shouguang Fushi Wood Co., Ltd.
Suzhou Siemo Wood Import & Export Co., Ltd.
Taishan Hongxiang Trading Co., Ltd.
Taishan Oversea Trading Co., Ltd.
Taizhou Overseas Int'l Ltd.
Tech Forest Cabinetry Co., Ltd.
The Ancientree Cabinet Co., Ltd.
Weifang Fuxing Wood Co., Ltd.
Weifang Yuanlin Woodenware Co., Ltd.
Weihai Jarlin Cabinetry Manufacture Co., Ltd.
Weisen Houseware Co., Ltd.
Xiamen Adler Cabinetry Co., Ltd.
Xiamen Golden Huanan Imp. & Exp. Co., Ltd.
Xuzhou Yihe Wood Co., Ltd.
Yixing Pengjia Cabinetry Co., Ltd.
Yixing Pengjia Technology Co., Ltd.
Zaozhuang New Sharp Import & Export Trading Co., Ltd.
Zhangzhou OCA Furniture Co., Ltd.
Zhongshan NU Furniture Co., Ltd.
Zhoushan For-strong Wood Co., Ltd.
CVD Proceedings
Bahrain: Common Alloy Aluminum Sheet, C-525-002 | 1/1/24-12/31/24
Gulf Aluminium Rolling Mill B.S.C.
India: Certain New Pneumatic Off-The-Road Tires, C-533-870 | 1/1/24-12/31/24
Aakriti Manufacturing Pvt. Ltd.
Ace Ventura Tyres and Tracks
Ammann India Private Limited
Apollo Tyres Ltd.
Asha Rubber Industries
Asian Tire Factory Ltd.
Asiatic Tradelinks Private Limited
ATC Tires AP Private Limited (India)
ATC Tires Private Limited; ATC Tires AP Private Ltd.; Yokohama India Private Limited
Balkrishna Industries Ltd.
Braza Tyres Pvt Ltd.
Carrier Wheels Private Limited
Cavendish Industries Ltd.
Ceat Ltd.
Celite Tyre Corporation
Emerald Resilient Tyre Manufacturer
Faucon Industries
Forech India Private Limited
HRI Tires India
Innovative Tyres & Tubes Limited
JK Tyre & Industries Ltd.
John Deere India Pvt. Ltd.
K.R.M. Tyres
Mahansaria Tyres Private Limited
MRF Limited
MRL Tyres Limited (Malhotra Rubbers Ltd.)
Neosym Industry Limited
OTR Laminated Tyres (I) Pvt. Ltd.
Ralson Tyres Limited
Royal Tyres Private Limited
Rubberman Enterprises Pvt. Ltd.
Speedways Rubber Company
Sun Tyre And Wheel Systems
Sundaram Industries Private Limited
Superking Manufacturers (Tyre) Pvt., Ltd.
TOT Tyres Private Limited
Trident International Pvt. Ltd.
TVS Srichakra Limited
Tyre Experts LLP
Ultra Mile
Viaz Tyres Limited
India: Carbon and Alloy Steel Threaded Rod, C-533-888 | 1/1/24-12/31/24
Bee Dee Cycle Industries
Good Good Manufacturers
Kanika Fasteners Private Limited; Kanika Exports
Maharaja International
Nishant Steel Industries
R K Fasteners
India: Common Alloy Aluminum Sheet, C-533-896 | 1/1/24-12/31/24
Hindalco Industries Limited
Jindal Aluminum Limited
Manaksia Aluminium Company Limited
Virgo Aluminum Limited
The People's Republic of China: Aluminum Foil, C-570-054 | 1/1/24-12/31/24
Alcha International Holdings Limited
Anhui Zhongji Battery Foil Science & Technology Co., Ltd. (f/k/a Anhui Maximum Aluminium Industries Co., Ltd.
Baotou Alcha Aluminum Co., Ltd.
Dingheng New Materials Co., Ltd.
Dingsheng Aluminium Industries (Hong Kong) Trading Co., Limited or Dingsheng Aluminium Industries (Hong Kong) Trading Co., Ltd.
Gränges Aluminum (Shanghai) Co., Ltd.
Hangzhou DingCheng Aluminum Co., Ltd.
Hangzhou Dingsheng Import&Export Co., Ltd. (or Hangzhou Dingsheng Import and Export Co., Ltd.)
Hangzhou Dingsheng Industrial Group Co., Ltd.
Hangzhou Five Star Aluminium Co., Ltd.
Hangzhou Teemful Aluminium Co., Ltd.
Inner Mongolia Liansheng New Energy Material Co., Ltd. (or Inner Mongolia Liansheng New Energy Material Joint-Stock Co., Ltd.)
Inner Mongolia Xinxing New Energy Material Co., Ltd. (or Inner Mongolia Xinxing New Material Co., Ltd.)
Jiangsu Dingsheng New Materials Joint-Stock Co., Ltd.
Jiangsu Huafeng Aluminium Industry Co., Ltd.
Jiangsu Zhongji Lamination Materials Co., Ltd. (f/k/a/Jiangsu Zhongji Lamination Materials Stock Co., Ltd.)
Jiangsu Zhongji Lamination Materials Co., (HK) Limited
Shanghai Shenyan Packaging Materials Co., Ltd
Shantou Wanshun New Material Group Co., Ltd. (f/k/a/Shantou Wanshun Package Material Stock Co., Ltd.)
Thai Ding Li New Materials Co, Ltd.
Yinbang Clad Material Co., Ltd.
The People's Republic of China: Wooden Cabinets and Vanities and Components Thereof, C-570-107 | 1/1/24-12/31/24
Anhui Swanch Cabinetry Co., Ltd.
Changyi Zhengheng Woodwork Co., Ltd.
Dalian Hualing Wood Co., Ltd.
Dalian Meisen Woodworking Co. Ltd.; Dalian Hechang Technology Development Co., Ltd.⁹
Fujian Dushi Wooden Industry Co.
Fujian Leifeng Cabinetry Co., Ltd.
Fuzhou CBM Import & Export Co., Ltd.
Goldenhome Living Co., Ltd.
Guangzhou Nuolande Import and Export Co., Ltd.
Hong Kong Jian Cheng Trading Co., Limited
Honsoar New Building Material Co., Ltd.
Jiangsu Weisen Houseware Co., Ltd.
Jiangsu Xiangsheng Bedtime Furniture Co., Ltd.
Jiang Su Rongxin Wood Industry Co., Ltd.
KM Cabinetry Co, Ltd.
Morewood Cabinetry Co., Ltd.
Nantong Aershin Cabinet Co., Ltd.
Qingdao Haiyan Drouot Household Co., Ltd.
Qingdao Shousheng Industry Co., Ltd.
Senke Manufacturing Co.
Shandong Jinhua Wood Co., Ltd.
Shandong Longsen Woods Co., Ltd.
Shanghai Zifeng International Trading Co., Ltd.
Sheen Lead International Trading (Shanghai) Co., Ltd.
Shouguang Fushi Wood Co., Ltd.
Taishan Oversea Trading Company Ltd.
The Ancientree Cabinet Co., Ltd.; Jiangsu Hongjia Wood Co., Ltd.; Jiangsu Hongjia Wood Co., Ltd. Shanghai Branch; Jiangsu Yunru Technology Industry Co., Ltd ¹⁰
Weifang Fuxing Wood Co., Ltd.
Weifang Yuanlin Woodenware Co., Ltd.
Xiamen Adler Cabinetry Co., Ltd.
Xiamen Golden Huanan Imp. & Exp. Co., Ltd.
Xuzhou Yihe Wood Co., Ltd.
Yixing Pengjia Cabinetry Co., Ltd.; Yixing Pengjia Technology Co., Ltd.¹¹
Zhongshan NU Furniture Co., Ltd.

Suspension Agreements

⁴ Commerce also received a request for review of “Goodgood Manufacturers,” which we consider to be the same company.

⁵ Commerce also received a request for review of “Kanika Exp.,” which we consider to be the same company.

⁶ Commerce also received a request for review of “Shree Laxmi Fasteners,” which we consider to be the same company.

⁷ In the initiation notice published on March 28, 2025 (90 FR 14081), we incorrectly listed the company names for a single entity on which we initiated the administrative review. We are correcting that error in this notice.

⁸ In past reviews, Commerce has treated these companies as a single entity. See, e.g., Certain Activated Carbon from the People's Republic of China: Final Results of Antidumping Duty Administrative Review; and Final Determination of No Shipments; 2020-2021, 87 FR 67671 (November 9, 2022). Commerce also received a review request for Jacobi Carbons, Inc., however, because Jacobi Carbons, Inc. is a U.S. affiliate of Jacobi Carbons AB., it is not listed in this notice.

⁹ Commerce previously determined that Dalian Meisen Woodworking Co. Ltd. and Dalian Hechang Technology Development Co., Ltd. are cross-owned. See Wooden Cabinets and Vanities and Components Thereof from the People's Republic of China: Final Affirmative Countervailing Duty Determination, 85 FR 11962 (February 28, 2020).

¹⁰ Commerce previously determined that The Ancientree Cabinet Co., Ltd.; Jiangsu Hongjia Wood Co., Ltd.; Jiangsu Hongjia Wood Co., Ltd. Shanghai Branch; and Jiangsu Yunru Technology Industry Co., Ltd are cross-owned. See Wooden Cabinets and Vanities and Components Thereof from the People's Republic of China: Final Results of Countervailing Duty Administrative Review; 2022, 89 FR 88962 (November 12, 2024).

¹¹ Commerce previously determined that Yixing Pengjia Technology Co., Ltd.'s former name was Yixing Pengjia Cabinetry Co., Ltd. See Wooden Cabinets and Vanities and Components Thereof from the People's Republic of China: Final Results of Countervailing Duty Administrative Review; 2022, 89 FR 88962 (November 12, 2024).

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹² available at https://www.govinfo.gov/content/pkg/FR-2013-07-17/pdf/2013-17045.pdf, prior to submitting factual information in this segment. Note that Commerce has amended certain of its requirements pertaining to the service of documents in 19 CFR 351.303(f).¹³

¹² See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹³ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.¹⁴ Commerce intends to reject factual submissions in any proceeding segments if the submitting party does not comply with applicable certification requirements.

¹⁴ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁵ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹⁵ See 19 CFR 351.302.

Notification to Interested Parties

These initiations and this notice are in accordance with section 751(a) of the Act (19 U.S.C. 1675(a)) and 19 CFR 351.221(c)(1)(i).

Dated: May 14, 2025.
Scot Fullerton,
Acting Deputy Assistant Secretary for Antidumping and Countervailing Duty Operations.

[FR Doc. 2025-08970 Filed 5-19-25; 8:45 am]

BILLING CODE 3510-DS-P